DEPARTMENT OF ENERGY

Federal Energy Regulatory Commission

Notice of Sunshine Act Meeting

June 10, 2004.

The following notice of meeting is published pursuant to section 3(A) of the Government in the Sunshine Act (Pub. L. 94-409), 5 U.S.C. 552b:

Agency Holding Meeting: Federal Energy Regulatory Commission.

Date and Time: June 17, 2004, 10 a.m.

Place: Room 2C, 888 First Street, NE., Washington, DC 20426.

Status: Open.

Matters to be Considered: Agenda.

Note: Items listed on the agenda may be deleted without further notice.

Contact Person for More Information: Magalie R. Salas, Secretary, telephone (202) 502-8400; for a recording listing items stricken from or added to the meeting, call (202) 502-8627.

This is a list of matters to be considered by the Commission. It does not include a listing of all papers relevant to the items on the agenda; however, all public documents may be examined in the Reference and Information Center.

862nd—Meeting June 17, 2004, Regular Meeting 10 a.m.

Administrative Agenda

A-1.

DOCKET# AD02-1, 000, Agency Administrative Matters

A-2.

DOCKET# AD02-7, 000, Customer Matters, Reliability, Security and Market Operations

A-3, A-4.

DOCKET# AD04-7, 000, 2004 Summer Energy Market Assessment Strategic Plan

Markets, Tariffs and Rates—Electric

E-1.

OMITTED

E-2.

DOCKET# ER02-1656, 017, California Independent System Operator Corporation

OTHER#S ER02-1656, 018, California Independent System Operator Corporation

EL04-108, 000, Public Utilities Providing Service in California under Sellers' Choice Contracts

E-3.

DOCKET# ER03-262, 009, New PJM Companies

American Electric Power Service Corp.

On behalf of its Operating Companies: Appalachian Power Company, Columbus Southern Power Company, Indiana Michigan Power Company, Kentucky Power Company, Kingsport Power Company, Ohio Power Company, and Wheeling Power Company

Commonwealth Edison Company, and Commonwealth Edison Company of Indiana, Inc., The Dayton Power and Light Company, and

PJM Interconnection, LLC

OTHER#S ER03-262, 010, New PJM Companies

American Electric Power Service Corp.

On behalf of its Operating Companies: Appalachian Power Company, Columbus Southern Power Company, Indiana Michigan Power Company, Kentucky Power Company, Kingsport Power Company, Ohio Power Company, and Wheeling Power Company

Commonwealth Edison Company, and Commonwealth Edison Company of Indiana, Inc., The Dayton Power and Light Company, and

PJM Interconnection, LLC

ER03-262, 013, New PJM Companies

American Electric Power Service Corp.

On behalf of its Operating Companies: Appalachian Power Company, Columbus Southern Power Company, Indiana Michigan Power Company, Kentucky Power Company, Kingsport Power Company, Ohio Power Company, and Wheeling Power Company

Commonwealth Edison Company, and

Commonwealth Edison Company of Indiana, Inc., The Dayton Power and Light Company, and

PJM Interconnection, LLC

EC98-40, 008, American Electric Power Company and Central and Southwest Corporation

ER98-2770, 009, American Electric Power Company and Central and Southwest Corporation

ER98-2786, 009, American Electric Power Company and Central and Southwest Corporation

E-4.

DOCKET# ER04-776, 000, PJM Interconnection L.L.C.

E-5.

OMITTED

E-6.

OMITTED

E-7.

OMITTED

E-8.

DOCKET# ER04-419, 001, Xcel Energy Operating Companies

OTHER#S ER04-419, 002, Xcel Energy Operating Companies

E-9.

OMITTED

E-10.

DOCKET# ER04-753, 000, Sulpher Springs Valley Electric Cooperative, Inc.

E-11.

DOCKET# ER04-761, 000, Puget Sound Energy, Inc.

E-12.

OMITTED

E-13.

OMITTED

E-14.

OMITTED

E-15.

OMITTED

E-16.

OMITTED

E-17.

OMITTED

E-18.

OMITTED

E-19.

DOCKET# ER04-434, 001, Southwest Power Pool

E-20.

DOCKET# EC04-95, 000, Kandiyohi Power Cooperative

E-21.

OMITTED

E-22.

OMITTED

E-23.

OMITTED

E-24.

OMITTED

E-25.

OMITTED

E-26.

OMITTED

E-27.

OMITTED

E-28.

DOCKET# EL04-43, 001, Tenaska Power Services Co. v. Midwest Independent Transmission System Operator, Inc.

OTHER#S EL04-46, 001, Cargill Power Markets, LLC v. Midwest Independent Transmission System Operator, Inc.

E-29.

DOCKET# RM04-6, 000, Sharing Information With Marketing Monitoring Units

E-30.

DOCKET# EL04-96, 000, W.E. Power LLC and Elm Road Generating Station Supercritical, LLC

E-31.

OMITTED

E-32.

DOCKET# EL04-14, 000, Californians for Renewable Energy, Inc. v. Mirant Americas Energy Marketing, L.P. and California Department of Water Resources

E-33.

OMITTED

E-34.

DOCKET# EL00-95, 085, San Diego Gas & Electric Company v. Sellers of Energy and Ancillary Services Into Markets Operated by the California Independent System Operator and the California Power Exchange Corporation

OTHER#S EL00-98, 085, Investigation of Practices of the California Independent System Operator Corporation and the California Power Exchange

E-35.

DOCKET# PL04-10, 000, Federal Power Act Section 305(b) Obligations

E-36.

DOCKET# EL02-23, 000, Consolidated Edison Company of New York, Inc. v. Public Service Electric and Gas Company, PJM Interconnection, L.L.C., and New York Independent System Operator, Inc.

E-37.

DOCKET# ER03-1274, 000, Boston Edison Company

E-38.

DOCKET# TX04-1, 000, Northeast Utilities Service Company

E-39.

DOCKET# ER03-997, 000, Kansas City Power & Light Company

OTHER#S ER03-997, 001, Kansas City Power & Light Company

E-40.

OMITTED

E-41.

DOCKET# ER02-2001, 003, Electric Quarterly Reports

OTHER#S ER92-429, 020, Torco Energy Marketing, Inc.

ER94-931, 016, PowerNet G.P.

ER94-1580, 022, Energy Resource Marketing, Inc.

ER94-1676, 017, Texas-Ohio Power Marketing, Inc.

ER95-257, 020, Industrial Gas & Electric Services Co.

ER95-385, 010, Southeastern Energy Resources, Inc.

ER95-473, 012, Proven Alternatives, Inc.

ER95-792, 014, K Power Company, Inc.

ER95-914, 013, Power Clearinghouse, Inc.

ER95-964, 011, CNB/Olympic Gas Services

ER95-1047, 011, Ruffin Energy Services, Inc.

ER95-1234, 017, Prairie Winds Energy, Inc.

ER95-1855, 012, VTEC Energy, Inc.

ER96-1, 018, Powertec International, LLC

ER96-203, 004, Multi-Energies USA, Inc.

ER96-280, 016, Energy Transfer Group, LLC

ER96-332, 008, PowerMark, LLC

ER96-525, 012, Utility Management & Consulting, Inc.

ER96-594, 006, International Utility Consultants, Inc.

ER96-659, 017, Bonneville Fuels Management Corp.

ER96-795, 011, Gateway Energy Marketing

ER96-906, 009, SuperSystems, inc.

ER96-947, 015, Quantum Energy Resources, Inc.

ER96-1119, 008, Kibler Energy Ltd

ER96-1150, 003, Wheeled Electric Power Co.

ER96-1283, 008, BTU Power Corporation

ER96-1724, 010, SDS Petroleum Products, Inc.

ER96-1754, 001, Powerline Controls, Inc.

ER96-1798, 006, CPS Capital Limited

ER96-1930, 011, Power Fuels, Inc.

ER96-2435, 001, J.D. Enterprises

ER96-2583, 002, Hubbard Power & Light, Inc.

ER96-2882, 014, Russell Energy Services Company

ER96-2914, 007, Working Assets Green Power, Inc.

ER96-3086, 011, Energy2, Inc.

ER97-135, 001, Manner Technologies, LLC

ER97-360, 013, American Energy Trading, Inc.

ER97-765, 008, Revelation Energy Resources Corporation

ER97-778, 004, NXIS, LLC

ER97-1248, 005, Wasatch Energy Corporation

ER97-1428, 006, American Power Reserve Marketing

ER97-1630, 004, Brennan Power, Inc.

ER97-1643, 001, APRA Energy Group, Inc.

ER97-2413, 012, FINA Energy Services Company

ER97-2426, 004, UtiliSys Corporation

ER97-2517, 009, Xenergy, Inc.

ER97-2604, 007, Applied Resources Integrated Services, Inc.

ER97-2792, 010, Community Electric Power Corporation

ER97-2900, 002, United Regional Energy, L.L.C.

ER97-3056, 004, R. Hadler and Company, Inc.

ER97-3187, 002, Power Systems Group, Inc.

ER97-3306, 003, UTIL Power Marketing, Inc.

ER97-3416, 006, Global Energy & Technology, Inc.

ER97-3526, 006, Woodruff Energy

ER97-3788, 010, Anker Power Services, Inc.

ER97-4173, 001, Electrical Associates Power Marketing, Inc.

ER97-4427, 004, Electric Lite, Inc.

ER97-4787, 001, High Island Marketing, Inc.

ER98-174, 007, Millennium Energy Corporation

ER98-1148, 006, Kamps Propane, Inc.

ER98-1421, 006, Polaris Electric Power Company, Inc.

ER98-1486, 004, Equinox Energy, LLC

ER98-1622, 008, Energy Unlimited, Inc.

ER98-1823, 005, XERXE Group, Inc.

ER98-1824, 009, Pacific Energy & Development Corp.

ER98-1829, 009, UtiliSource Corporaton

ER98-1953, 006, PG Energy PowerPlus

ER98-2175, 008, Salem Electric, Inc.

ER98-2535, 004, Hafslund Energy Trading, LLC

ER98-3012, 002, Rainbow Power USA LLC

ER98-3261, 003, Reliable Energy, Inc.

ER98-3344, 001, Omni Energy

ER98-3393, 006, Fortistar Power Marketing, LLC

ER98-3433, 005, JMF Power Marketing

ER98-3526, 007, Shamrock Trading, LLC

ER98-4240, 002, Abacus Group, Ltd.

ER98-4264, 001, International Energy Ventures, Inc.

ER99-505, 005, Lakeside Energy Services, LLC

ER99-1184, 002, Minnesota Agri-Power, LLC

ER99-3005, 003, Coast Energy Group

ER99-3142, 001, FPH Electric, LLC

ER99-4044, 001, Sandia Resources Corporation

ER00-741, 002, Canal Emirates Power International, Inc.

ER00-1408, 001, Utilimax.com, Inc.

ER00-1453, 001, Essential Utility Resources, LLC

ER00-1975, 001, American Energy Savings, Inc.

ER00-2248, 001, Energy Trading Company, Inc.

ER00-2363, 001, Allied Companies, LLC

ER01-36, 002, USPower Energy, LLC

ER01-40, 001, Quinnipiac Energy LLC

ER01-1279, 002, Connecticut Energy Cooperative, Inc.

ER01-1496, 001, Sundance Energy

ER01-1760, 002, Haleywest LLC

ER01-1897, 002, EOPT Power Group Nevada, Inc.

ER01-2656, 001, Credit Suisse First Boston International

ER02-517, 003, U.S. Gas & Electric

E-42.

DOCKET# ER03-262, 009, New PJM Companies

American Electric Power Service Corp.

On behalf of its Operating Companies: Appalachian Power Company, Columbus Southern Power Company, Indiana Michigan Power Company, Kentucky Power Company, Kingsport Power Company, Ohio Power Company, and Wheeling Power Company

Commonwealth Edison Company, and

Commonwealth Edison Company of Indiana, Inc., The Dayton Power and Light Company, and

PJM Interconnection, LLC

E-43.

DOCKET# TX04-3, 000, Long Island Power Authority, Long Island Lighting Company d/b/a LIPA and Cross-Sound Cable Company LLC

Miscellaneous Agenda

M-1.

DOCKET# RM04-9, 000, Electronic Notification of Commission Issuances

Markets, Tariffs and Rates—Gas

G-1.

DOCKET# RP04-238, 000, El Paso Natural Gas Company

G-2.

DOCKET# RP04-176, 000, Northwest Pipeline Corporation

G-3.

DOCKET# RP03-542, 001, Texas Eastern Transmission, LP

G-4.

DOCKET# RP02-361, 016, Gulfstream Natural Gas System, L.L.C.

G-5.

OMITTED

G-6.

DOCKET# RP03-64, 001, Gulf South Pipeline Company, LP

OTHER#S RP03-64, 002, Gulf South Pipeline Company, LP

G-7.

DOCKET# RP04-188, 001, Great Lakes Gas Transmission Limited Partnership

OTHER#S RP04-188, 002, Great Lakes Gas Transmission Limited Partnership

G-8.

OMITTED

G-9.

OMITTED

G-10.

DOCKET# RP04-67, 000, NGO Transmission, Inc.

Energy Projects—Hydro

H-1.

DOCKET# P-460, 026, City of Tacoma, Washington

OTHER#S P-460, 021, City of Tacoma, Washington

H-2.

DOCKET# P-2842, 038, City of Idaho Falls, Idaho

OTHER#S P-553, 160, City of Seattle, Washington

P-637, 026, Public Utility District No. 1 of Chelan County, Washington

P-943, 086, Public Utility District No. 1 of Chelan County, Washington

P-1417, 144, Central Nebraska Public Power and Irrigation District

P-1862, 130, City of Tacoma, Washington

P-2000, 049, New York Power Authority

P-2016, 070, City of Tacoma, Washington

P-2042, 026, Public Utility District No. 1 of Pend Oreille County, Washington

P-2101, 080, Sacramento Municipal Utility District

P-2144, 031, City of Seattle, Washington

P-2145, 058, Public Utility District No. 1 of Chelan County, Washington

P-2149, 111, Public Utility District No. 1 of Douglas County, Washington

P-2216, 063, New York Power Authority

P-2409, 128, Calaveras County Water District

P-2442, 065, City of Watertown, New York

P-2685, 018, New York Power Authority

P-2705, 032, City of Seattle, Washington

P-2959, 118, City of Seattle, Washington

P-2997, 028, South Sutter Water District

P-3083, 103, Oklahoma Municipal Power Authority

P-3190, 020, City of Santa Clara, California

P-3193, 019, City of Santa Clara, California

P-6842, 157, Cities of Aberdeen and Tacoma, Washington

P-10551, 099, City of Oswego, New York

H-3.

DOCKET# P-2145, 057, Public Utility District No. 1 of Chelan County, Washington

OTHER#S P-943, 083, Public Utility District No. 1 of Chelan County, Washington

P-2149, 106, Public Utility District No. 1 of Douglas County, Washington

H-4.

DOCKET# P-2145, 057, Public Utility District No. 1 of Chelan County, Washington

H-5.

DOCKET# P-943, 083, Public Utility District No. 1 of Chelan County, Washington

H-6.

DOCKET# P-2149, 106, Public Utility District No. 1 of Douglas County, Washington

H-7.

DOCKET# P-6132, 009, John C. Jones

H-8.

DOCKET# P-2576, 022, Northeast Generation Services Company

OTHER#S P-2597, 019, Northeast Generation Services Company

H-9.

DOCKET# P-1984, 092, Wisconsin River Power Company

H-10.

DOCKET# P-2210, 088, Appalachian Power Company

Energy Projects—Certificates

C-1.

DOCKET# CP03-75, 000, Freeport LNG Development, L.P.

C-2.

DOCKET# CP04-58, 001, Sound Energy Solutions

C-3.

DOCKET# RP04-249, 000, AES Ocean Express LLC v. Florida Gas Transmission Company

C-4.

DOCKET# CP04-49, 000, Dominion Transmission, Inc.

C-5.

DOCKET# CP01-37, 002, Trans-Union Interstate Pipeline, L.P.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

Magalie R. Salas,
Secretary.

[FR Doc. 04-13984 Filed 6-16-04; 2:31 pm]

BILLING CODE 6717-01-P